DEPARTMENT OF TRANSPORTATION

Federal Railroad Administration

[Docket No. FRA-2024-0007]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) summarized below to the Office of Management and Budget (OMB) for review and comment. The ICR describes the information collection and its expected burden. On October 4, 2024, FRA published a notice providing a 60-day period for public comment on the ICR. FRA received no comments in response to the notice.

DATES: Interested persons are invited to submit comments on or before January 9, 2025.

ADDRESSES: Written comments and recommendations for the proposed ICR should be sent within 30 days of publication of this notice to www.reginfo.gov/public/do/PRAMain. Find the particular ICR by selecting “Currently under Review—Open for Public Comments” or by using the search function.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On October 4, 2024, FRA published a 60-day notice in the Federal Register soliciting public comment on the ICR for which it is now seeking OMB approval. See 89 FR 80983. FRA has received no comments related to the proposed collection of information.

Before OMB decides whether to approve this proposed collection of information, it must provide 30 days' notice for public comment. Federal law requires OMB to approve or disapprove paperwork packages between 30 and 60 days after the 30-day notice is published. 44 U.S.C. 3507(b)-(c); 5 CFR 1320.12(d); see also 60 FR 44978, 44983, Aug. 29, 1995. The 30-day notice informs the regulated community of its opportunity to file relevant comments and affords the agency adequate time to consider public comments before it renders a decision. 60 FR 44983, Aug. 29, 1995. Therefore, each respondent should submit their comments to OMB within 30 days of publication to best ensure having their full effect.

Comments are invited on the following ICR regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Grants Management Requirements for Federal Railroad Administration. Grant Awards and Cooperative Agreements.

OMB Control Number: 2130-0615.

Abstract: FRA solicits grant applications through a multitude of grant programs for projects including, but not limited to, preconstruction planning activities, safety improvements, congestion relief, improvement of grade crossings, rail line relocation, as well as projects that encourage development, expansion, and upgrades to passenger and freight rail infrastructure and services. FRA funds projects that meet FRA and government-wide evaluation standards and align with the DOT Strategic Plan.

FRA requires systematic and uniform collection and submission of information, as approved by OMB, to ensure accountability of Federal assistance provided by FRA. Through this information collection, FRA will measure Federal award recipients' performance and results, including expenditures in support of agreed-upon activities and allowable costs outlined in the standard FRA Notice of Grant Award sent to the recipients.

This information collection includes OMB-required reports and documentation, as well as additional forms and submissions to compile data relevant to addressing FRA's important policy challenges, promoting cost-effectiveness in FRA programs, and providing effective oversight of programmatic and financial performance. FRA issues and manages awards in compliance with 2 CFR part 200; Uniform Administrative Requirements, Cost Principles, and Audit Requirements for Federal Awards.

In this 30-day notice, after a thorough review, FRA has adjusted the previously reported number of burden hours and responses that were published in the 60-day notice on October 4, 2024.¹ As a result, the adjustments have decreased the requested burden hours from 28,869 to 21,173, and responses from 11,001 to 4,762. Details of the adjustments are outlined in the following statements below:

¹ 89 FR 80983.

• In previously reported submissions, FRA determined that burden hours associated with Standard Forms SF 270; SF 424; SF 424A; SF 424B; SF 424C; SF 424D; SF 425; and SF LLL were included as part of the total estimated burden hours, which added additional hours to the ICR. However, FRA determined that it was more appropriate for the burden hours for the SF forms to accounted for only once under the host OMB control number. Accordingly, FRA has removed the previously reported burden hours of the Standard Forms from this ICR renewal submission.

• Discontinuance of FRA F 6180.229 NIST Manufacturing Extension partnership Supplier Scouting. As part of the implementation of the Build America, Buy America (BABA), federal agencies are required to coordinate with the National Institute of Standards and Technology—Manufacturing Extension Partnership (NIST-MEP) to conduct supplier scouting efforts when federal agencies anticipate the need to waiver either BABA or Buy America requirements for federally funded projects. The NIST-MEP has requested that federal agencies direct project sponsors and the manufacturers of non-compliant components to engage directly with them to conduct this supplier scouting effort. As such, FRA no longer plans to collect information on the FRA F 6180.229 at this time and thus, proposes to remove the burden hours associated with the form, as this burden will be captured by the NIST-MEP.

Type of Request: Revision of a currently approved collection.

Form(s): FRA F 6180.30; FRA F 6180.31 (revised); FRA F 6180.32; FRA F 6180.33; FRA F 6180.34 (revised); FRA F 6180.217; FRA F 6180.251; FRA F 6180.252; Plus, one new form FRA F 6180.288 (new).

Affected Public: Generally, includes States, local governments, and railroads.

Frequency of Submission: Varied; on occasion/monthly.

Reporting Burden: For transparency FRA is republishing the burden table to show the corrected burden table.

Form name | Form No. | Grant activity/ process | Respondent universe | Average time per response (in hours) | Total annual burden hours | Total cost equivalent in U.S. dollar
|  |  | (A) | (B) | (C = A * B) | (D = C * wage rates) ²
Applicant Financial Capability Questionnaire | FRA F 6180.251 | Application | 1,000 | 2 | 2,000 | $123,700
FRA Assurances and Certifications Regarding Lobbying; Debarment, Suspension and Other Responsibility Matters and Drug-Free Workplace Requirements | FRA F 6180.30 | Application | 1,000 | 0.25 | 250 | 15,462.50
Pre-Award Authority Request—Project Sponsors that wish to incur pre-award expenses can apply for pre-award authority. (New Form) | FRA F 6180.288 | Pre-Award | 100 | 3 | 300 | 18,555.00
Payment Summary Spreadsheet | FRA F 6180.252 | Awards & Maintenance | 860 | 0.50 | 430 | 26,595.50
Quarterly Progress Report ³ (FRA F 6180.34; new awards) Revised form | FRA F 6180.34 | Awards & Maintenance | 500 | 2 | 1,000 | 61,850.00
Quarterly Progress Report ⁴ (FRA F 6180.34; existing recipients) Revised form | FRA F 6180.34 | Awards & Maintenance | 864 | 2 | 1,728 | 106,876.80
Grant Adjustment Request Form (GARF) Revised form | FRA F 6180.31 | Awards & Maintenance | 212 | 1 | 212 | 13,112.20
Service Outcome Agreement (SOA) Annual Reporting | FRA F 6180.32 | Awards & Maintenance | 24 | 1 | 24 | 1,484.40
Certification of Compliance or Non-Compliance with Buy America Requirements for Steel, Iron, Construction Materials, and Manufactured Products being produced by Awardee (narrative request) | Narrative Request | Buy America Component | 15 | 4 | 60 | 3,711.00
Certification of Compliance with Buy America for Rolling Stock (narrative request) | Narrative Request | Buy America Component | 1 | 62 | 62 | 3,834.79
Waivers—Requests/Applications for Waivers, excluding FRA Form 229 (narrative request) | Narrative Request | Buy America Component | 15 | 80 | 1,200 | 74,220.00
Awardee Investigations (including FRA initiated investigations) | Narrative Request | Buy America Component | 3 | 333 | 999 | 61,788.15
Awardee direct reply to FRA after request to conduct investigation of bidder/offeror (narrative request) | Narrative Request | Buy America Component | 2 | 1 | 2 | 123.70
Additional Documents to FRA from Awardee/Investigated Party (narrative request) | Narrative Request | Buy America Component | 1 | 4 | 4 | 247.40
Transmission of Awardee/Bidder/Offeror Reply to Petitioner (narrative request) | Narrative Request | Buy America Component | 1 | 4 | 4 | 247.40
Awardee/Investigated Bidder/Offeror response to Petitioner Comment (narrative request) | Narrative Request | Buy America Component | 1 | 8 | 8 | 494.80
Written request to FRA for information bearing on substance of investigation which has been submitted by petitioner, interested parties, or awardees (narrative request) | Narrative Request | Buy America Component | 1 | 4 | 4 | 247.40
Detailed Statement to FRA Regarding Confidentiality of Previously Submitted Information to Agency (narrative request) | Narrative Request | Buy America Component | 1 | 8 | 8 | 494.80
Awardee Determination to make award before resolution of investigation one of these sections specified reasons (narrative request) | Narrative Request | Buy America Component | 1 | 40 | 40 | 2,474.00
Notification to FRA by Awardee to make award during pendency of investigation (narrative request) | Narrative Request | Buy America Component | 1 | 1 | 1 | 61.85
Request to FRA for Reconsideration of Initial Decision by Party Involved in Investigations (narrative request) | Narrative Request | Buy America Component | 1 | 80 | 80 | 4,948.00
Pre-Award Audit (narrative request) | Narrative Request | Buy America Component | 1 | 33 | 33 | 2,041.05
Final Contract between Awardee and Bidder/Offeror (narrative request) | Narrative Request | Buy America Component | 1 | 16 | 16 | 989.60
Post Award Audit (narrative request) | Narrative Request | Buy America Component | 1 | 256 | 256 | 15,833.60
Rolling Stock Domestic Content Improvement Plans (narrative request) | Narrative Request | Buy America Component | 1 | 120 | 120 | 7,422.00
Categorical Exclusion (Worksheet) | FRA F 6180.217 | Awards & Maintenance | 75 | 156 | 11,700 | 723,645.00
Final Performance Report | FRA F 33 | Closeout | 79 | 8 | 632 | 39,089.20
Total ⁵ |  |  | 4,762 |  | 21,173 | 1,309,550

Total Estimated Annual Responses: 4,762.

² The dollar equivalent cost is derived from the May 2023 Department of Labor, Bureau of Labor Statistics (BLS), using the median hourly wage rate for a Management Analyst 13-1111 of 47.80, plus an overhead rate of 29.4% (Employer Costs for Employee Compensation—June 2023) for a fully burdened wage rate of 47.80 + 14.05 = 61.85.

³ 125 new awardees submit each quarter—125 × 4 = 500 respondents.

⁴ 216 existing awardees submit each quarter—216 × 4 = 864 respondents.

⁵ Total may not add up due to rounding.

Total Estimated Annual Burden: 21,173 hours.

Total Estimated Annual Burden Hour Dollar Cost Equivalent: $1,309,550.

FRA informs all interested parties that it may not conduct or sponsor, and a respondent is not required to respond to, a collection of information that does not display a currently valid OMB control number.

Authority: 44 U.S.C. 3501-3520.

Christopher S. Van Nostrand,
Deputy Chief Counsel.

[FR Doc. 2024-28921 Filed 12-9-24; 8:45 am]

BILLING CODE 4910-06-P